OFFICE OF THE FEDERAL REGISTER

1 CFR Part 51

[Docket Number: OFR-2013-0001]

RIN 3095-AB78

Incorporation by Reference

AGENCY: Office of the Federal Register, National Archives and Records Administration.

ACTION: Extension of comment period; correction.

SUMMARY: On November 18, 2013, the Office of the Federal Register published an extension of the comment period for our proposal to amend our regulations governing the approval of agency requests to incorporate material by reference into the Code of Federal Regulations. We are correcting the date of that extension.

DATES: Comments must be received on or before January 31, 2014.

ADDRESSES: You may submit comments, identified using the subject line of this document, by any of the following methods:

• Federal eRulemaking Portal: http://www.regulations.gov/# !docketDetail;D=OFR-2013-0001. Follow the instructions for submitting comments.

• Email: Fedreg.legal@nara.gov. Include the subject line of this document in the subject line of the message.

• Mail: the Office of the Federal Register (NF), The National Archives and Records Administration, 8601 Adelphi Road, College Park, MD.

• Hand Delivery/Courier: Office of the Federal Register, 800 North Capitol Street NW., Suite 700, Washington, DC 20001.

Docket materials are available at the Office of the Federal Register, 800 North Capitol Street NW., Suite 700, Washington, DC 20001, 202-741-6030. Please contact the persons listed in the FOR FURTHER INFORMATION CONTACT section to schedule your inspection of docket materials. The Office of the Federal Register's official hours of business are Monday through Friday, 8:45 a.m. to 5:15 p.m., excluding Federal holidays.

FOR FURTHER INFORMATION CONTACT: Amy Bunk, Director of Legal Affairs and Policy, or Miriam Vincent, Staff Attorney, Office of the Federal Register, at Fedreg.legal@nara.gov, or 202-741-6030.

SUPPLEMENTARY INFORMATION: On October 2, 2013, the Office of the Federal Register published a proposal to amend our regulations governing the approval of agency requests to incorporate material by reference into the Code of Federal Regulations (78 FR 60784). On November 18, 2013, we published an extension of the comment period, along with other minor corrections (78 FR 69006); however we extended the comment period to January 31, 2013 instead of January 31, 2014. Therefore, we are correcting that date and extending the comment period to January 31, 2014.

Correction

In proposed rule FR Doc. 2013-27541, beginning on page 69006 in the issue of November 18, 2013, make the following correction:

In the DATES section on page 69006 in the first column, remove and replace “2013” with “2014.”

Dated: November 18, 2013.
Charles A. Barth,
Director, Office of the Federal Register.

[FR Doc. 2013-27987 Filed 11-19-13; 8:45 am]

BILLING CODE 1505-02-P